SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes one extension and two revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than August 16, 2013. Individuals can obtain copies of the collection instruments by writing to the above email address.

1. Travel Expense Reimbursement—20CFR 404.999(d) and 416.1499—0960-0434. The Social Security Act (Act) stipulates that Federal and State agencies reimburse travel expenses for claimants, their representatives, and all necessary witnesses for travel exceeding 75 miles to attend medical examinations, reconsideration interviews, and proceedings before an administrative law judge. Reimbursement procedures require the claimant to provide (1) a list of expenses incurred and (2) receipts of such expenses. Federal and State personnel review the listings and receipts to verify the amount reimbursable to the requestor. The respondents are claimants for title II benefits and title XVI payments, their representatives and witnesses.

Type of Request: Extension of an OMB-approved information collection.

Modality of completion | Number of respondents | Frequency of response | Average burden per response (minute) | Estimated annual burden (hours)
404.999(d) & 416.1499 | 60,000 | 1 | 10 | 10,000

2. Social Security Benefits Application—20 CFR 404.310-404.311, 404.315-404.322, 404.330-404.333, 404.601-404.603, and 404.1501-404.1512—0960-0618. Title II of the Social Security Act provides retirement, survivors, and disability benefits to members of the public who meet the required eligibility criteria and file the appropriate application. This collection comprises the various application methods for each type of benefits. These methods include the following modalities: Paper forms (Forms SSA-1, SSA-2, and SSA-16); Modernized Claims System (MCS) screens for in-person interview applications; and Internet-based iClaim and iAppointment applications. SSA uses the information collected using these modalities to determine: (1) The applicants' eligibility for the above-mentioned Social Security benefits and (2) the amount of the benefits. The respondents are applicants for retirement, survivors, and disability benefits under title II of the Social Security Act.

Type of Request: Revision of an OMB-approved information collection.

Form SSA-1
Modality of completion | Number of respondents | Frequency of response | Average burden per response (minute) | Estimated annual burden (hours)
MCS/Signature Proxy | 1,441,400 | 1 | 10 | 240,233
Paper | 2,300 | 1 | 11 | 422
Medicare-only MCS | 418,300 | 1 | 7 | 48,802
Medicare-only Paper | 300 | 1 | 7 | 35
Totals | 1,862,300 |  |  | 289,492

Form SSA-2
Modality of completion | Number of respondents | Frequency of response | Average burden per response (minute) | Estimated annual burden (hours)
MCS/Signature Proxy | 364,000 | 1 | 14 | 84,933
Paper | 1,200 | 1 | 15 | 300
Totals | 365,200 |  |  | 85,233

Form SSA-16
Modality of completion | Number of respondents | Frequency of response | Average burden per response (minute) | Estimated annual burden (hours)
MCS/Signature Proxy | 1,695,800 | 1 | 19 | 537,003
Paper | 53,300 | 1 | 20 | 17,767
Totals | 1,749,100 |  |  | 554,770

iClaim Screens
Modality of completion | Number of respondents | Frequency of response | Average burden per response (minute) | Estimated annual burden (hours)
iClaim 3rd Party | 431,357 | 1 | 15 | 107,839
iClaim Applicant after 3rd Party Completion | 431,357 | 1 | 5 | 35,946
First Party iClaim—Domestic Applicant | 1,838,943 | 1 | 15 | 459,736
First Party iClaim—Foreign Applicant | 8,291 | 1 | 3 | 415
Medicare-only iClaim | 552,400 | 1 | 10 | 92,067
Totals | 3,262,348 |  |  | 696,003

iAppointment Screens
Modality of completion | Number of respondents | Frequency of response | Average burden per response (minute) | Estimated annual burden (hours)
iAppointment | 200,000 | 1 | 10 | 33,333

Grand Total
Modality of completion | Number of respondents | Frequency of response | Average burden per response (minute) | Estimated annual burden (hours)
Total | 7,438,948 |  |  | 1,658,831

3. Request for Accommodation in Communication Method—0960-0777. SSA allows blind or visually impaired Social Security applicants, beneficiaries, recipients, and representative payees to choose one of seven alternative methods of communication they want SSA to use when we send them benefit notices and other related communications. The seven alternative methods we offer are: (1) Standard print notice by first-class mail; (2) standard print mail with a follow-up telephone call; (3) certified mail; (4) Braille; (5) Microsoft Word file on data CD; (6) large print (18-point font); or (7) audio CD. However, respondents who want to receive notices from SSA through a communication method other than the seven methods listed above must explain their request to us. Those respondents use Form SSA-9000 to: (1) Describe the type of accommodation they want, (2) disclose their condition necessitating the need for a different type of accommodation, and (3) explain why none of the seven methods described above are sufficient for their needs. SSA uses Form SSA-9000 to determine, based on applicable law and regulation, whether to grant the respondents' requests for an accommodation based on their blindness, or other visual impairment. SSA collects this information electronically through either an in-person interview or a telephone interview during which the SSA employee keys in the information on Intranet screens. The respondents are blind or visually impaired Social Security applicants, beneficiaries, recipients, and representative payees who ask SSA to send notices and other communications in an alternative method besides the seven modalities we currently offer.

Type of Request: Revision of an OMB-approved information collection.

Modality of completion | Number of respondents | Frequency of response | Average burden per response (minute) | Estimated annual burden (hours)
SSA-9000 | 1417 | 1 | 20 | 472

This is a correction notice: SSA published this information collection with incorrect burden information at 78 FR 33142 on June 3, 2013. We are providing the corrected burden here.

II. SSA submitted the information collections below to OMB for clearance. Your comments regarding the information collections would be most useful if OMB and SSA receive them 30 days from the date of this publication. To be sure we consider your comments, we must receive them no later than July 17, 2013. Individuals can obtain copies of the OMB clearance packages by writing to OR.Reports.Clearance@ssa.gov.

1. Representative Payee Evaluation Report—20 CFR 404.2065 & 416.665—0960-0069. Sections 205(j) and 1631(a)(2) of the Act state SSA may appoint a representative payee to receive title II benefits or title XVI payments on behalf of individuals unable to manage or direct the management of those funds themselves. SSA requires appointed representative payees to report once each year on how they used or conserved those funds. When a representative payee fails to adequately report to SSA as required, SSA conducts a face-to-face interview with the payee and completes Form SSA-624, Representative Payee Evaluation Report, to determine the continued suitability of the representative payee to serve as a payee. The respondents are individuals or organizations serving as representative payees for individuals receiving title II benefits or title XVI payments and who fail to comply with SSA's statutory annual reporting requirement.

Type of Request: Revision of an OMB-approved information collection.

Modality of collection | Number of respondents | Frequency of response | Average burden per response (minutes) | Estimated total annual burden (hours)
SSA-624 | 267,000 | 1 | 30 | 133,500

Note: This is a correction notice: SSA published this information collection with outdated burden information at 78 FR 19794 on April 2, 2013. We are providing updated burden here.

2. Waiver of Supplemental Security Income Payment Continuation—20 CFR 416.1400-416.1422—0960-0783. Supplemental Security Income (SSI) recipients who wish to discontinue their SSI payments while awaiting a determination on their appeal complete Form SSA-263-U2, Waiver of Supplemental Security Income Payment Continuation, to inform SSA of this decision. SSA collects the information to determine whether the SSI recipient meets the provisions of the Act regarding waiver of payment continuation and as proof respondents no longer want their payments to continue. Respondents are recipients of SSI payments who wish to discontinue receipt of payment while awaiting a determination on their appeal.

Type of Request: Revision of an OMB-approved information collection.

Modality of collection | Number of respondents | Frequency of response | Average burden per response (minutes) | Estimated total annual burden (hours)
SSA-263-U2 | 3,000 | 1 | 5 | 250

Dated: June 12, 2013.
Faye Lipsky,
Reports Clearance Director, Social Security Administration.

[FR Doc. 2013-14278 Filed 6-14-13; 8:45 am]

BILLING CODE 4191-02-P